DEPARTMENT OF JUSTICE

Antitrust Division

Notice Pursuant to the National Cooperative Research and Production Act of 1993—Utah Health Information Network

Notice is hereby given that, on June 1, 2005, pursuant to Section 6(a) of the National Cooperative Research and Production Act of 1993, 15 U.S.C. 4301 et seq. (“the Act;”), Utah Health Information Network (“UHIN”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Utah Health Information Network, Murray, UT. The nature and scope of UHIN's standards development activities are: to develop, maintain and promote voluntary, consensus-based interoperability standards related to the exchange of electronic healthcare data, including but not limited to, standardization of data sets, specifications, network architecture, requirements, services, methods and procedures that apply to facilities, personnel, systems, service providers, operators, and others handling healthcare information.

Dorothy B. Fountain,
Deputy Director of Operations, Antitrust Division.

[FR Doc. 05-12049 Filed 6-17-05; 8:45 am]

BILLING CODE 4410-11-M